DEPARTMENT OF TRANSPORTATION

Federal Aviation Administration

14 CFR Part 39

[Docket No. FAA-2012-0695; Directorate Identifier 2011-SW-031-AD; Amendment 39-17448; AD 2013-09-06]

RIN 2120-AA64

Airworthiness Directives; Agusta S.p.A. Helicopters

AGENCY: Federal Aviation Administration (FAA), DOT.

ACTION: Final rule.

SUMMARY: We are superseding an existing airworthiness directive (AD) for Agusta S.p.A. (Agusta) Model A119 and AW119 MKII helicopters. The existing AD currently requires inspecting the pilot and copilot engine rotary variable differential transformer (RVDT) control box assemblies to determine if the control gear locking pin is in its proper position. Since we issued that AD, Agusta has developed a terminating action for this inspection. This AD requires the same actions as the existing AD as well as modifying the RVDT control box assemblies. The actions of this AD are intended to prevent failure of an RVDT control box assembly, loss of manual control of the engine throttle, and subsequent loss of control of the helicopter.

DATES: This AD is effective June 20, 2013.

The Director of the Federal Register approved the incorporation by reference of a certain document listed in this AD as of June 20, 2013.

ADDRESSES: For service information identified in this AD, contact Agusta Westland, Customer Support & Services, Via Per Tornavento 15, 21019 Somma Lombardo (VA) Italy, Attn: Giovanni Cecchelli; telephone 39 0331711133; fax 39 0331 711180; or at http://www.agustawestland.com/technical-bullettins. You may review the referenced service information at the FAA, Office of the Regional Counsel, Southwest Region, 2601 Meacham Blvd., Room 663, Fort Worth, Texas 76137.

Examining the AD Docket

You may examine the AD docket on the Internet at http://www.regulations.gov or in person at the Docket Operations Office between 9 a.m. and 5 p.m., Monday through Friday, except Federal holidays. The AD docket contains this AD, any incorporated-by-reference service information, the economic evaluation, any comments received, and other information. The street address for the Docket Operations Office (phone: 800-647-5527) is U.S. Department of Transportation, Docket Operations Office, M-30, West Building Ground Floor, Room W12-140, 1200 New Jersey Avenue SE., Washington, DC 20590.

FOR FURTHER INFORMATION CONTACT: Robert Grant, Aviation Safety Engineer, Safety Management Group, FAA, 2601 Meacham Blvd., Fort Worth, Texas 76137; telephone (817) 222-5110; email robert.grant@faa.gov.

SUPPLEMENTARY INFORMATION:

Discussion

On July 3, 2012, at 77 FR 39444, the Federal Register published our notice of proposed rulemaking (NPRM), which proposed to amend 14 CFR part 39 to supersede AD 2010-15-51 (75 FR 50863, August 18, 2010). The NPRM would apply to Agusta model A119 and AW119 MKII helicopters and proposed to require repetitively inspecting the pilot and co-pilot control box assemblies for the proper positioning of the locking pins, and if the locking pin is recessed or extended in excess of 2.0 millimeters from the face of the pin bore, or missing, replacing the control box assembly. Additionally, the NPRM proposed to require modifying the pilot and co-pilot control box assemblies to terminate the repetitive inspection requirements. The proposed requirements were intended to prevent failure of an RVDT control box assembly, loss of manual control of the engine throttle, and subsequent loss of control of the helicopter.

The European Aviation Safety Agency (EASA), which is the Technical Agent for the Member States of the European Union, has issued EASA AD 2011-0095-E, dated May 24, 2011, to permanently correct the unsafe condition addressed in AD 2010-15-51 (75 FR 50863, August 18, 2010) for the Agusta A119 and AW MKII helicopters. EASA advises that Agusta has developed a modification to the pilot and co-pilot control box assemblies that will “remedy the problem and prevent recurrence.” This EASA AD requires repetitive inspections of the affected pilot and co-pilot control box assemblies until a terminating action modification is made within 8 calendar months of the effective date of the EASA AD.

Comments

We gave the public the opportunity to participate in developing this AD, but we did not receive any comments on the NPRM (77 FR 39444, July 3, 2012).

FAA's Determination

These helicopters have been approved by the aviation authority of Italy and are approved for operation in the United States. Pursuant to our bilateral agreement with Italy, EASA, its technical representative, has notified us of the unsafe condition described in the EASA AD. We are issuing this AD because we evaluated all information provided by EASA and determined the unsafe condition exists and is likely to exist or develop on other helicopters of these same type designs and that air safety and the public interest require adopting the AD requirements as proposed.

Related Service Information

We reviewed Agusta Alert Bollettino Tecnico (ABT) No. 119-39 Revision A, dated May 23, 2011 (ABT 119-39). The ABT 119-39 describes procedures for repetitively inspecting the pilot and co-pilot control box assemblies for correct positioning of the engine RVDT control gear locking pin and provides instructions on how to modify the pilot and co-pilot control box assemblies to terminate the repetitive inspections. EASA classified this ABT as mandatory and issued EAD No. 2011-0095-E, dated May 24, 2011, to ensure the continued airworthiness of these helicopters.

Costs of Compliance

We estimate that this AD will affect 49 helicopters of U.S. Registry. We estimate that operators will incur the following costs in order to comply with this AD. At an average labor rate of $85 per work hour, inspecting the two RVDT control box assemblies will require about 1.5 hours, for a cost per helicopter of about $128 and a cost to the U.S. fleet of about $6,272 per inspection cycle. Modification of the pilot and co-pilot RVDT control box assemblies will require about 8 hours, and required parts will cost about $8, for a total cost per helicopter of $688 and a cost to the U.S. fleet of $33,712.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on helicopters identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979);

(3) Will not affect intrastate aviation in Alaska to the extent that it justifies making a regulatory distinction; and

(4) Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing airworthiness directive (AD) 2010-15-51, Amendment 39-16397 (75 FR 50863, August 18, 2010), and adding the following new AD:

2013-09-06 Agusta S.p.A.: Amendment 39-17448; Docket No. FAA-2012-0695; Directorate Identifier 2011-SW-031-AD.

(a) Applicability

This AD applies to Agusta Model A119 and AW119 MKII helicopters, with pilot control box assembly (control box), part number (P/N) 109-0010-81-103, and co-pilot control box, P/N 109-0010-81-107, installed, certificated in any category.

(b) Unsafe Condition

This AD defines the unsafe condition as a rotary variable differential transformer (RVDT) locking pin, which could move out of position and result in loss of manual throttle control of the engine and subsequent loss of control of the helicopter.

(c) Affected ADs

This AD supersedes AD 2010-15-51, Amendment 39-16397 (75 FR 50863, August 18, 2010).

(d) Effective Date

This AD becomes effective June 20, 2013.

(e) Compliance

You are responsible for performing each action required by this AD within the specified compliance time unless it has already been accomplished prior to that time.

(f) Required Actions

(1) Within 5 hours time-in-service (TIS), and thereafter at intervals not to exceed 50 hours TIS, remove the cover of the pilot and co-pilot RVDT control box assemblies and inspect the locking pins for proper position by following the Compliance Instructions, Parts I and II, paragraphs 2. through 4.1 for the pilot control box assembly and paragraphs 5. through 7.1 for the co-pilot control box assembly, of Agusta Bollettino Tecnico No. 119-39, Revision A, dated May 23, 2011.

(2) If during the inspection the locking pin is recessed or extended in excess of 2.0 millimeters from the face of the pin bore, or missing, before further flight, replace the RVDT control box with an airworthy RVDT control box that has been modified in accordance with paragraph (f)(3) of this AD.

(3) Within 8 months,

(i) Modify the pilot RVDT control box assembly, P/N 109-0010-81-103, by reference to Figures 1 through 7 and in accordance with the Compliance Instructions, Part III, paragraphs 5.1 through 5.16 of Agusta Bollettino Tecnico No. 119-39 Revision A, dated May 23, 2011; and

(ii) Modify the co-pilot RVDT control box assembly, P/N 109-0010-81-107, by reference to Figures 1 through 7 and in accordance with the Compliance Instructions, Part III, paragraphs 3.1 through 3.16 of Agusta Bollettino Tecnico No. 119-39, Revision A, dated May 23, 2011.

(4) Modifying the pilot and copilot RVDT control box assemblies in accordance with paragraph (f)(3) of this AD constitutes terminating action for the requirements of this AD.

(g) Alternative Methods of Compliance (AMOCs)

(1) The Manager, Safety Management Group, FAA, may approve AMOCs for this AD. Send your proposal to: Robert Grant, Aviation Safety Engineer, Safety Management Group, FAA, 2601 Meacham Blvd., Fort Worth, Texas 76137; telephone (817) 222-5110; email robert.grant@faa.gov.

(2) For operations conducted under a 14 CFR part 119 operating certificate or under 14 CFR part 91, subpart K, we suggest that you notify your principal inspector, or lacking a principal inspector, the manager of the local flight standards district office or certificate holding district office, before operating any aircraft complying with this AD through an AMOC.

(h) Additional Information

The subject of this AD is addressed in European Aviation Safety Agency AD 2011-0095-E, dated May 24, 2011.

(i) Subject

Joint Aircraft Service Component (JASC) Code: 6700: Rotors Flight Control.

(j) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Agusta Bollettino Tecnico No. 119-39 Revision A, dated May 23, 2011.

(ii) Reserved.

(3) For Agusta service information identified in this AD, contact Agusta Westland, Customer Support & Services, Via Per Tornavento 15, 21019 Somma Lombardo (VA) Italy, ATTN: Giovanni Cecchelli; telephone 39-0331-711133; fax 39 0331 711180; or at http://www.agustawestland.com/technical-bullettins.

(4) You may view this service information at FAA, Office of the Regional Counsel, Southwest Region, 2601 Meacham Blvd., Room 663, Fort Worth, Texas 76137. For information on the availability of this material at the FAA, call (817) 222-5110.

(5) You may view this service information that is incorporated by reference at the National Archives and Records Administration (NARA). For information on the availability of this material at NARA, call (202) 741-6030, or go to: http://www.archives.gov/federal-register/cfr/ibr-locations.html.

Issued in Fort Worth, Texas, on April 26, 2013.
Kim Smith,
Directorate Manager, Rotorcraft Directorate, Aircraft Certification Service.

[FR Doc. 2013-10903 Filed 5-15-13; 8:45 am]

BILLING CODE 4910-13-P